DEPARTMENT OF HEALTH AND HUMAN SERVICES

Administration for Children and Families

Privacy Act of 1974; Computer Matching Agreement

AGENCY: Office of Child Support Enforcement (OCSE), ACF, HHS.

ACTION: Notice.

SUMMARY: In accordance with the Privacy Act of 1974 (5 U.S.C. 522a), as amended, OCSE is publishing a notice of a computer matching program between OCSE and state agencies administering the Supplemental Nutrition Assistance Program (SNAP).

DATES: On December 13, 2016, HHS sent a report of the Computer Matching Program to the Committee on Homeland Security and Governmental Affairs of the Senate, the Committee on Oversight and Government Reform of the House of Representatives, and the Office of Information and Regulatory Affairs of the Office of Management and Budget (OMB), as required by 5 U.S.C. 552a(r) of the Privacy Act. HHS invites interested parties to review and submit written data, comments, or arguments to the agency about the matching program until January 23, 2017.

ADDRESSES: Interested parties may submit written comments on this notice to Linda Boyer, Director, Division of Federal Systems, Office of Child Support Enforcement, Administration for Children and Families, Mary E. Switzer Building, 330 C Street SW., 5th Floor, Washington, DC 20201. Comments received will be available for public inspection at this address from 9:00 a.m. to 5:00 p.m. ET, Monday through Friday.

FOR FURTHER INFORMATION CONTACT: Linda Boyer, Director, Division of Federal Systems, Office of Child Support Enforcement, Administration for Children and Families, Mary E. Switzer Building, 330 C Street SW., 5th Floor, Washington, DC 20201, 202-401-5410.

SUPPLEMENTARY INFORMATION: The Privacy Act of 1974 (5 U.S.C. 552a), as amended, provides for certain protections for individuals applying for and receiving federal benefits. The law governs the use of computer matching by federal agencies when records in a system of records are matched with other federal, state, or local government records. The Privacy Act requires agencies involved in computer matching programs to:

1. Negotiate written agreements with the other agency or agencies participating in the matching programs.

2. Provide notification to applicants and beneficiaries that their records are subject to matching.

3. Verify information produced by such matching program before reducing, making a final denial of, suspending, or terminating an individual's benefits or payments.

4. Publish notice of the computer matching program in the Federal Register.

5. Furnish reports about the matching program to Congress and the OMB.

6. Obtain the approval of the matching agreement by the Data Integrity Board of any federal agency participating in a matching program.

This matching program meets these requirements.

Dated: December 13, 2016.
Donna Bonar,
Deputy Commissioner, Office of Child Support Enforcement.

Notice of New Computer Matching Program

A. Participating Agencies

The participating agencies are the Office of Child Support Enforcement (OCSE), which is the “source agency,” and state agencies administering the Supplemental Nutrition Assistance Program (SNAP), which are the “non-federal agencies.”

B. Purpose of the Matching Program

The purpose of the matching program is to provide new hire, quarterly wage, and unemployment insurance information from OCSE's National Directory of New Hires (NDNH) to state agencies administering SNAP to assist in establishing or verifying the eligibility for assistance, reducing payment errors, and maintaining program integrity, including determining whether duplicate participation exists or if the client resides in another state. The state agencies administering SNAP may also use the NDNH information for the secondary purpose of updating the recipients' reported participation in work activities and updating recipients' and their employers' contact information maintained by the state agencies.

C. Authority for Conducting the Match

The authority for conducting the matching program is contained in section 453(j)(10) of the Social Security Act (42 U.S.C. 653(j)(10)). The Agriculture Act of 2014, Public Law 113-079, amended section 11(e) of the Food and Nutrition Act of 2008 (7 U.S.C. 2020(e)(24)) by adding the requirement

that the State agency shall request wage data directly from the National Directory of New Hires established under section 453(i) of the Social Security Act (42 U.S.C. 653(i)) relevant to determining eligibility to receive supplemental nutrition assistance program benefits and determining the correct amount of those benefits at the time of certification;

D. Categories of Individuals Involved and Identification of Records Used in the Matching Program

The categories of individuals involved in the matching program are adult members of households that receive or have applied for SNAP benefits. The system of records maintained by OCSE from which records will be disclosed for the purpose of this matching program is the “OCSE National Directory of New Hires” (NDNH), No. 09-80-0381, last published in the Federal Register at 80 FR 17906 on April 2, 2015. The NDNH contains new hire, quarterly wage, and unemployment insurance information. The disclosure of NDNH information by OCSE to the state agencies administering SNAP is a “routine use” under this system of records. Records resulting from the matching program and that are disclosed to state agencies administering SNAP include names, Social Security numbers, home addresses, and employment information.

E. Inclusive Dates of the Matching Program

The computer matching agreement will be effective and matching activity may commence the later of the following:

(1) 30 days after this notice is published in the Federal Register or (2) 40 days after OCSE sends a report of the matching program to the Congressional committees of jurisdiction under 5 U.S.C. 552a(o)(2)(A), and to OMB, unless OMB disapproves the agreement within the 40-day review period or grants a waiver of 10 days of the 40-day review period. The matching agreement will remain in effect for 18 months from its effective date, unless one of the parties to the agreement advises the other by written request to terminate or modify the agreement. The agreement is subject to renewal by the HHS Data Integrity Board for 12 additional months if the matching program will be conducted without any change and OCSE and the state agency certify to the Data Integrity Board in writing that the program has been conducted in compliance with the agreement.

[FR Doc. 2016-30894 Filed 12-22-16; 8:45 am]

BILLING CODE 4184-42-P